DEPARTMENT OF THE INTERIOR

National Park Service

[NPS-IMR-GRCA-16825; PX.P0133318B.00.1]

Draft Environmental Impact Statement for Backcountry Management Plan, Grand Canyon National Park, Arizona

AGENCY: National Park Service, Interior.

ACTION: Notice of availability.

SUMMARY: The National Park Service (NPS) announces the availability of the Draft Environmental Impact Statement for the Backcountry Management Plan (Plan/DEIS), Grand Canyon National Park, Arizona. The Plan/DEIS evaluates the impacts of three action alternatives that address backcountry and wilderness management.

DATES: The NPS will accept comments from the public on the Plan/DEIS for 90 days following publication by the U.S. Environmental Protection Agency (EPA) of the Notice of Availability of the Draft Environmental Impact Statement. After the EPA Notice of Availability is published, the NPS will schedule public meetings to be held during the comment period. Dates, times, and locations of these meetings will be announced in press releases and on the NPS Planning, Environment, and Public Comment (PEPC) for the project at http://parkplanning.nps.gov/GRCA.

ADDRESSES: Information will be available for public review and comment online at http://parkplanning.nps.gov/GRCA. Copies of the Plan/DEIS will also be available at the park library located in the Park Headquarters Building, 20 South Entrance Road, Grand Canyon, AZ.

FOR FURTHER INFORMATION CONTACT: Linda Jalbert, Wilderness Coordinator, PO Box 129, Grand Canyon, AZ 86023, (928) 638-7909, Linda_Jalbert@nps.gov or Rachel Bennett, Environmental Protection Specialist, 1824 S Thompson Street, Flagstaff, AZ 86001, (928) 638-7326, Rachel_Bennett@nps.gov.

SUPPLEMENTARY INFORMATION: The purpose of the Backcountry Management Plan is to establish an up-to-date plan that addresses immediate backcountry issues and provides an adaptive management framework to preserve, while allowing the public to experience, Grand Canyon's unique backcountry and wilderness resources and values. The park's backcountry encompasses over 1.1 million acres, most of which are proposed for wilderness designation. The Plan/DEIS evaluates four alternatives—the no-action alternative (A) and three action alternatives (B, C, and D)—all of which are summarized below. Alternative B is the NPS preferred alternative. Alternative D is the environmentally preferable alternative.

Alternative A, the no-action alternative, would continue existing management practices. Under this alternative user conflicts and concerns and resource impacts would continue to occur because extended day hiking and running (i.e. rim-to-rim day trips) would not be comprehensively managed. An interim process was developed in 2014 that requires organized groups participating in extended day hiking and running to apply for a special use permit and limits group size to 30. The interim policy is expected to remain in place until the completion of the Backcountry Management Plan Final EIS and Record of Decision. Commercial overnight backpacking would not be capped, would continue to occur in all backcountry management zones, and would be managed by commercial use authorizations. Commercial backpacking operators would continue to compete with the non-commercial public for backcountry permits which are limited by use area. River-assisted backcountry travel would continue to be managed with a rule that allows up to five miles of river travel on one backcountry permit. Under the no-action alternative, no additional campsites would be added to the corridor-zone campgrounds to address the bottleneck for overnight users. Under this alternative, overnight backpacking would continue at the level that occurred in 2012, which was 94,277 user nights (one user night is one person in the backcountry for one night). The no-action alternative is required by NEPA as a baseline against which action alternatives can be compared and evaluated.

Common to all action alternatives, NPS proposes an adaptive management process for extended day hiking and running (i.e. rim-to-rim day trips), human waste management, use area management, day use at Tuweep, and management of canyoneering and climbing. For example, seasonal day use permits are proposed for rim-to-rim and extended day hiking and running in the cross-canyon corridor in order to collect data and educate visitors. Future adaptive management actions could include limiting group size (e.g. 30), limiting overall number of people per day (e.g. 250), year-round day use permits, or designating specific days for these activities. Also common to all action alternatives, NPS proposes to authorize the majority of commercial overnight backpacking through longer-term concessions contracts (estimated at 3-5 contracts) instead of the commercial use authorization permits currently used. Commercial use authorizations would continue to be issued for commercial groups conducting three or less trips per year.

Alternative B, the NPS preferred alternative, focuses on providing a variety of recreational activities and a high level of protection for natural and cultural resources and wilderness character. Changes would include a reduction in group size for overnight backpacking, from a maximum of 11 to a maximum of 6, in two of the most remote wilderness zones. Alternative B would manage river-assisted backcountry travel using 31 route-based river sections and would include development of four additional campsites at Cottonwood Campground in the cross-canyon corridor. Commercially guided services would be limited by zone and would be allowed only in less remote backcountry areas, while the most remote wilderness areas would remain free of guided activities. Commercial overnight backpacking use would be capped, and commercial guides would no longer compete with the non-commercial public for backcountry permits. Overnight use in the popular cross-canyon corridor would increase by approximately 3% (from 53,821 to a projected 55,531 user nights). Overall, overnight use in the backcountry is expected to decrease by 1% (93,116 user nights), primarily as a result of the reduction in group size in two of the wilderness zones.

Alternative C focuses on recreational activities and expanded opportunities for these activities. Group sizes for overnight backpacking would be the same as at present. Alternative C proposes to manage river-assisted backcountry travel using 11 river sections. Up to eight additional campsites would be developed at Indian Garden, Cottonwood Campground and Roaring Springs. Commercially guided services would be allowed in more use areas throughout the backcountry when compared with Alternatives B and D. Commercial overnight backpacking use would be capped. Overnight use in the cross-canyon corridor would increase by approximately 10% (from 53,821 to a projected 59,421 user nights). Overall, overnight use in the backcountry is expected to increase by 5% (99,273 user nights), primarily as a result of the increase in campsites in the corridor zone and designated campsites along backcountry road corridors.

Alternative D, the environmentally preferable alternative, would focus on resource protection and opportunities for solitude. Recreational use would be concentrated in non-wilderness areas and facility improvement would be limited. Group size for overnight backpacking would be reduced, from a maximum of 11 to a maximum of 6, in all backcountry zones except the corridor zone. Commercially guided activities would be focused in non-wilderness zones. Commercial overnight backpacking use would be capped and only allowed in the corridor zone. These actions would allow for self-exploration and increased opportunities for solitude in all wilderness zones. Overnight use in the popular cross-canyon corridor would increase by approximately 2% (from 53,821 to a projected 54,846 user nights). Overall, overnight use in the backcountry is expected to decrease by 3% (91,405 user nights) primarily from the decrease in group size outside the corridor.

If you wish to comment, you may submit your comments by any one of several methods. You may submit comments online at http://parkplanning.nps.gov/grca. You may also mail comments to Superintendent, Grand Canyon National Park, PO Box 129, Grand Canyon, AZ 86023. Finally, you may hand-deliver comments to Grand Canyon National Park Headquarters, 20 South Entrance Rd, Grand Canyon, AZ.

Before including your address, phone number, email address, or other personal identifying information in your comment, you should be aware that your entire comment, including your personal identifying information, may be made publicly available at any time. While you can ask us in your comment to withhold your personal identifying information from public review, we cannot guarantee that we will be able to do so. We will make all submission from organizations and businesses, and from individuals identifying themselves as representatives or officials of organizations or businesses, available for public inspection in their entirety.

Dated: November 3, 2015.
Sue E. Masica,
Regional Director, Intermountain Region, National Park Service.

[FR Doc. 2015-30162 Filed 11-25-15; 8:45 am]

BILLING CODE 4312-CB-P